DEPARTMENT OF ENERGY

Federal Energy Regulatory Commission

[Docket No. RP01-201-000]

Columbia Gas Transmission Corporation; Notice of Proposed Changes in FERC Gas Tariff

January 9, 2001.

Take notice that on December 29, 2000, Columbia Gas Transmission Corporation (Columbia) tendered for filing as part of its FERC Gas Tariff, Second Revised Volume No. 1, the following revised tariff sheets, bearing a proposed effective date of February 1, 2001:

Forty-eighth Revised Sheet No. 25

Forty-eighth Revised Sheet No. 26

Forty-eighth Revised Sheet No. 27

Forty-third Revised Sheet No. 28

Fifth Revised Sheet No. 28B

Sixteenth Revised Sheet No. 29

Twenty-second Revised Sheet No. 30A

Columbus states that this filing is being submitted pursuant to an order issued September 15, 1999, the Federal Energy Regulatory Commission (Commission) approved an uncontested settlement that resolves environmental cost recovery issues in the above-referenced proceeding. Columbia Gas Transmission Corporation, 88 FERC ¶ 61,217 (1999). The settlement established environmental cost recovery through unit components of base rates, all as more fully set forth in Article VI of the settlement agreement filed April 5, 1999 (Phase II Settlement).

Columbia is required to file annually a limited NGA Section 4 filing to adjust its environmental unit components effective February 1 to recover its environmental costs covered by the Phase II Settlement, within agreed-upon ceilings and recovery percentages. For the annual period February 1, 2001 through January 31, 2002, the Phase II Settlement permits Columbia to collect “no more than $14 million annually in Main Program Costs”, and “no more than $3 million annually in Storage Well Program Costs.” Article VI(B) of the Phase II Settlement. The instant filing satisfies that requirement. It provides for the February 1, 2001 effectiveness of revised unit components designed to collect $7.8 million in Main Program Costs and $2.8 million of Storage Well Program Costs

Columbia states that copies of its filing have been mailed to all firm customers, interruptible customers and affected state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-1145 Filed 1-12-01; 8:45 am]

BILLING CODE 6717-01-M